SMALL BUSINESS ADMINISTRATION

Public Federal Regulatory Enforcement Fairness Hearing; Region IV Regulatory Fairness Board

The Small Business Administration Region IV Regulatory Fairness Board and the SBA Office of the National Ombudsman will hold a Public Hearing on Tuesday, December 3, 2002 at 9 a.m. at the Miami-Dade Community College, Wolfson Campus, ETCOTA Auditorium, Room 7128 (1st Floor), 500 NE 2nd Avenue, Miami, FL 33132, to receive comments and testimony from small business owners, small government entities, and small non-profit organizations concerning regulatory enforcement and compliance actions taken by federal agencies.

Anyone wishing to attend or to make a presentation must contact Maritza Perez in writing or by fax, in order to be put on the agenda. Maritza Perez, U.S. Small Business Administration, South Florida District Office, 100 South Biscayne Blvd. 7th Floor, Miami, FL 33131, phone (305) 536-5521 x103, fax (305) 536-5058, e-mail maritza.perez@sba.gov.

For more information, see our Web site at http://www.sba.gov/ombudsman.

Dated: November 19, 2002.
Michael L. Barrera,
National Ombudsman.

[FR Doc. 02-29996 Filed 11-25-02; 8:45 am]

BILLING CODE 8025-01-P